DEPARTMENT OF THE INTERIOR

Bureau of Land Management

[LLWY9210000, L54100000.FR0000, WYW180014]

Notice of Segregation and Possible Conveyance of Federally Owned Mineral Interests Application; Wyoming

AGENCY: Bureau of Land Management, Interior.

ACTION: Notice.

SUMMARY: This notice segregates the federally owned mineral interests underlying the non-Federal lands described in this notice aggregating approximately 579.74 acres in Crook County, Wyoming, from location and entry under the mining laws and the mineral leasing laws to determine their suitability for conveyance of the reserved mineral interest pursuant to Section 209 of the Federal Land Policy and Management Act of October 21, 1976 (FLPMA).

The mineral interest will be conveyed in whole or in part upon favorable mineral examination.

FOR FURTHER INFORMATION CONTACT: Jennifer Whyte, Realty Specialist, Bureau of Land Management (BLM), 5353 North Yellowstone Road, Cheyenne, Wyoming 82009, 307-775-6232 or via email at jwhyte@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The purpose is to allow consolidation of surface and subsurface minerals ownership where there are no known mineral values or in those instances where the reservation interferes with or precludes appropriate non-mineral development and such development is a more beneficial use of the land than mineral development.

The federally owned mineral interests underlying the following-described non-Federal lands in Crook County, Wyoming, are being considered for conveyance under the authority of Section 209 of FLPMA, (43 U.S.C. 1713):

Sixth Principle Meridian

T. 53 N., R. 66 W.,

Sec. 1, SW¼SW¼;

Sec. 2, SE¼SE¼;

Sec. 3, lot 2, SW¼NE¼, N½SW¼, SE¼SW¼, and NW¼SE¼, excluding mining claims of record;

Sec. 10, NE¼NW¼, excluding mining claims of record;

Sec. 11, N½SW¼, and SE¼SW¼;

Sec. 12, N½NW¼;

Sec. 14, NE¼NW¼;

Sec. 15, NW¼NE¼, and NE¼NW¼.

The areas described aggregate 579.74 acres in Crook County, according to the official plats of the surveys of the said lands, on file with the BLM.

Under certain conditions, including payment of the administrative costs and fair market value of the interest conveyed, Section 209(b) of FLPMA authorizes the sale and conveyance of the federally owned mineral interests in land when the non-mineral interest (or so-called surface interest) in land is not federally owned. The objective is to allow consolidation of the surface and mineral interests when either one of the following conditions exist: (1) There are no known mineral values in the land; or (2) Continued Federal ownership of the mineral interests interferes with or precludes appropriate non-mineral development and such development is a more beneficial use of the land than mineral development.

An application was filed by YPI, Incorporated for the sale and conveyance of the federally owned mineral interests in the above-described tract of land. Subject to valid existing rights, on April 23, 2012 the federally owned mineral interests in the land described above are hereby segregated from appropriation under the general mining and mineral leasing laws, while the application is being processed to determine if either one of the two specified conditions exists and, if so, to otherwise comply with the procedural requirements of 43 CFR part 2720. The segregative effect shall terminate: (i) Upon issuance of a patent or other document of conveyance as to such mineral interests; (ii) Upon final rejection of the application; or (iii) April 23, 2014, whichever occurs first.

(Authority: 43 CFR 2720.1-1(b))

Larry Claypool,
Deputy State Director.

[FR Doc. 2012-9685 Filed 4-20-12; 8:45 am]

BILLING CODE 4310-22-P